DEPARTMENT OF AGRICULTURE

Cooperative State Research, Education, and Extension Service

Notice of Intent To Revise and Reinstate an Expired Information Collection

AGENCY: Cooperative State Research, Education, and Extension Service, USDA.

ACTION: Notice and request for comments.

SUMMARY: In accordance with the Paperwork Reduction Act of 1995 (44 U.S.C. chap. 35) and the Office of Management and Budget (OMB) regulations at 5 CFR part 1320 (60 FR 44978, August 29, 1995), this notice announces the Cooperative State Research, Education, and Extension Service's (CSREES) intention to request approval of an information collection in support of authorizations to use the 4-H Club Name and/or Emblem. Authorization of a similar information collection expired on July 31, 2002.

DATES: Comments on this notice must be received on or before January 13, 2003 to be assured of consideration.

FOR FURTHER INFORMATION CONTACT: Dr. Nancy Valentine; National 4-H Program Leader; Families, 4-H, and Nutrition; Cooperative State Research, Education, and Extension Service; U.S. Department of Agriculture; Stop 2225; 1400 Independence Avenue, SW.; Washington, DC 20250-2225; Telephone: (202) 720-2908; E-mail: nvalentine@reeusda.gov.

SUPPLEMENTARY INFORMATION: Title: Application for Authorization to Use the 4-H Club Name and/or Emblem.

OMB Number: 0524-0034.

Expiration Date of Approval: July 31, 2002.

Type of Request: Intent to request approval of an information collection.

Summary of Collection: Use of the 4-H Club Name and/or Emblem is authorized by an Act of Congress (18 U.S.C. 707). Use of the 4-H Club Name and/or Emblem by anyone other than 4-H Clubs and those duly authorized by them, representatives of the United States Department of Agriculture, the land-grant colleges and universities, and persons authorized by the Secretary of Agriculture is prohibited by the provisions of 18 U.S.C. 707. The Secretary of Agriculture has delegated authority to the Administrator of CSREES to authorize others to use the 4-H Club Name and Emblem. The Administrator has promulgated regulations at 7 CFR Part 8 that govern such use. The regulatory requirements for use of the 4-H Club Name and/or Emblem reflect the high standards of 4-H and its educational goals and objectives. Pursuant to provisions of 7 CFR § 8.6, anyone requesting authorization from the Administrator to use the 4-H Club Name and Emblem is asked to describe the proposed use in a formal application. The collection of this information is used to determine whether the applicant's proposed use will meet the regulatory requirements in 7 CFR part 8 and whether an authorization for use should be granted.

Need and Use of the Information: CSREES will collect information on the name of the individual, partnership, corporation, or association; the organizational address; the name of an authorized representative; the telephone number, fascimile number, and e-mail address; the proposed use of the 4-H Club Name or Emblem; and the plan for sale or distribution of the product bearing the 4-H Club Name or Emblem. The information collected by CSREES will be used to determine if those applying to use the 4-H Club Name or Emblem meet the regulatory requirements. If the information is not collected, it would not be possible to ensure that the products, services, and materials meet the regulatory requirements as well as 4-H educational goals and objectives.

Estimate of Burden: Public reporting burden for this collection of information is estimated to average .5 hours per response.

Respondents: Individuals or households and business or other for-profit or not-for-profit institutions.

Estimated Number of Respondents: 60.

Estimated Number of Responses per Respondent: 2.

Estimated Total Annual Burden on Respondents: 60 hours.

Copies of this information collection can be obtained from Dr. Nancy Valentine, National 4-H Program Leader, 202-720-2908, jkahler@reeusda.gov. Information also is available at http://www.national4-hheadquarters.gov/4h_name.htm.

Comments

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Dr. Nancy Valentine, National 4- Program Leader, Families, 4-H, and Nutrition; Cooperative State Research, Education, and Extension Service; U.S. Department of Agriculture; Stop 2225; Independence Avenue, SW.; Washington, DC 20250-2225; Telephone: (202) 720-2908; E-mail: jkahler@reeusda.gov.

All responses to this notice will be summarized and included in the request to OMB for approval. All comments will become a matter of public record.

Done at Washington, DC, on this 18th day of October 2002.
Colien Hefferan,
Administrator, Cooperative State Research, Education, and Extension Service.

[FR Doc. 02-28350 Filed 11-6-02; 8:45 am]

BILLING CODE 3410-22-P